NUCLEAR REGULATORY COMMISSION

10 CFR Parts 1, 2, 4, 7, 9, 11, 15, 19, 20, 21, 25, 26, 30, 32, 37, 40, 50, 51, 52, 55, 60, 61, 62, 63, 70, 71, 72, 73, 74, 76, 81, 95, 100, 110, 140, 150, 170, and 171

[NRC-2015-0239]

RIN 3150-AJ69

Miscellaneous Corrections

AGENCY: Nuclear Regulatory Commission.

ACTION: Final rule.

SUMMARY: The U.S. Nuclear Regulatory Commission (NRC) is amending its regulations to make miscellaneous corrections. These changes include renaming the Office of Information Services, renaming the Computer Security Office and removing it as a standalone office, capitalizing the words Tribe, Tribes, and Tribal, correcting a Web site address, correcting a misspelling, removing a submission requirement, correcting an email address, correcting a room number, removing a Federal Register notice requirement, and adding missing information collection references. This document is necessary to inform the public of these non-substantive changes to the NRC's regulations.

DATES: This rule is effective December 31, 2015.

ADDRESSES: Please refer to Docket ID NRC-2015-0239 when contacting the NRC about the availability of information for this final rule. You may obtain publicly-available information related to this final rule by any of the following methods:

• Federal Rulemaking Web site: Go to http://www.regulations.gov and search for Docket ID NRC-2015-0239. Address questions about NRC dockets to Carol Gallagher; telephone: 301-415-3463; email: Carol.Gallagher@nrc.gov. For technical questions, please contact the individual listed in the FOR FURTHER INFORMATION CONTACT section of this final rule.

• NRC's Agencywide Documents Access and Management System (ADAMS):

You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Jill Shepherd-Vladimir, Office of Administration, telephone: 301-415-1230, email: Jill.Shepherd@nrc.gov; U.S. Nuclear Regulatory Commission, Washington, DC 20555-0001.

SUPPLEMENTARY INFORMATION:

I. Introduction

The NRC is amending its regulations in parts 1, 2, 4, 7, 9, 11, 15, 19, 20, 21, 25, 26, 30, 32, 37, 40, 50, 51, 52, 55, 60, 61, 62, 63, 70, 71, 72, 73, 74, 76, 81, 95, 100, 110, 140, 150, 170, and 171 of title 10 of the Code of Federal Regulations (10 CFR) to make miscellaneous corrections. These changes include renaming the Office of Information Services, renaming the Computer Security Office and removing it as a standalone office, capitalizing the words Tribe, Tribes, and Tribal, correcting a Web site address, correcting a misspelling, removing a submission requirement, correcting an email address, correcting a room number, removing a Federal Register notice requirement, and adding missing information collection references. This document is necessary to inform the public of these non-substantive changes to the NRC's regulations.

II. Summary of Changes

10 CFR Part 1

Remove Office. This final rule removes and reserves § 1.38. The Computer Security Office has been renamed the Information Security Directorate and will now be part of the Office of the Chief Information Officer. The Information Security Directorate information is now included as new paragraphs (h) through (l) under § 1.35. Additional editorial changes have been made as the result of adding the new paragraphs. Also, in § 1.3, paragraph (c), the phrase “Information and Records Services Division” is being removed as reference to the Office is sufficient information.

10 CFR Parts 1, 2, 4, 7, 9, 11, 15, 19, 20, 21, 25, 26, 30, 37, 40, 50, 51, 52, 55, 60, 61, 62, 63, 70, 71, 72, 73, 74, 76, 81, 95, 100, 110, 140, 150, 170, and 171

Rename Office. This final rule removes all references to the office name “Office of Information Services” and replaces them with the new office name “Office of the Chief Information Officer.”

10 CFR Parts 1, 2, 7, 32, 40, 51, 61, 71, 72, 73, and 150

Capitalize The Words Tribe, Tribes, And Tribal. This final rule capitalizes all references of “Tribe,” “Tribes,” and “Tribal.” These changes are being made so that these terms are used consistently in the NRC's regulations.

10 CFR Part 37

Correct Web site Address. In § 37.77(a)(1), this final rule removes the incorrect Web site address “https://nrc.stp.ornl.gov/special/designee.pdf” and replaces it with the correct Web site address “https://scp.nrc.gov/special/designee.pdf.”

10 CFR Part 50

Correct Misspelling. In § 50.34(f)(3)(v)(A)(1) and (B)(1), this final rule removes the misspelled term “subsubarticle” and replaces it with the correct term “subarticle.”

Remove Submission Requirement In section V, of appendix E, this final rule removes the requirement on nuclear power plant licensees to submit any changes to their emergency plans or procedures to the Commission, as specified in § 50.4, within 30 days. Changes to an emergency plan, however, must still be reported to the NRC or requested in a license amendment application as required in 10 CFR 50.54(q). With regard to changes to procedures that are required to be submitted under appendix E, section V only, and not under 10 CFR 50.54(q), the NRC has found that these changes consist of administrative information that is inconsequential to the NRC's licensing or regulatory oversight activities (such as address changes and phone number changes). Even after the effective date of this rule, these changes to procedures will remain subject to NRC inspection. Thus, the change to appendix E, section V will reduce the regulatory burden on the licensee and the administrative burden on the NRC staff without impacting the NRC's oversight and inspection of nuclear power plant licensees. For these reasons, this rule reflects a non-substantive change of a duplicative requirement where notice-and-comment is unnecessary under the Administrative Procedure Act (5 U.S.C. 553(b)).

10 CFR Part 51

Correct Email Address. In § 51.123(a) and (b), this final rule removes the incorrect email address “distribution@nrc.gov” and replaces it with the correct email address “distribution.resource@nrc.gov.”

10 CFR Part 55

Correct Office Room Number. In Footnote 1 of § 55.40, this final rule removes the incorrect room number for the NRC Public Document “(0-1 F23)” and replaces it with the correct room number “(O-1 F21).”

10 CFR Part 71

Remove Federal Register Notice Requirement. In § 71.97(c)(3)(ii), this rule removes the requirement that changes to the list of governor's designees and Tribal official's designees of participating Tribes be published annually in the Federal Register on or about June 30th. This section will now direct stakeholders to the NRC's public Web site where the most accurate information is available. This change also conforms this section to §§ 37.77(a)(1) and 73.37(b)(2).

10 CFR Part 73

Add Missing Information Collection References. In § 73.8, this final rule adds sections “73.23” and “73.51” to the list of sections in 10 CFR part 73 that contain information collections. These two sections were added to § 73.8 in a final rule dated July 6, 2012 (77 FR 39909), and were inadvertently removed in a final rule published on May 20, 2013 (78 FR 29550).

Correct Web site Address. In § 73.37(b)(2), this final rule removes the incorrect Web site address “https://nrc.stp.ornl.gov/special/designee.pdf” and replaces it with the correct Web site address “https://scp.nrc.gov/special/designee.pdf.”

III. Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments, because notice and opportunity for comment are unnecessary. The amendments will have no substantive impact and are of a minor and administrative nature dealing with corrections to certain CFRs related only to management, organization, procedure, and practice. Specifically, the revisions rename offices, capitalize words, correct a Web site address, correct a misspelling, remove a submission requirement, correct an email address, correct a room number, remove a Federal Register notice requirement, and add missing information collection references.

The Commission is exercising its authority under 5 U.S.C. 553(b)(3)(B) to publish these amendments as a final rule. The amendments are effective December 31, 2015. These amendments do not require action by any person or entity regulated by the NRC. Also, the final rule does not change the substantive responsibilities of any person or entity regulated by the NRC.

IV. Environmental Impact: Categorical Exclusion

The NRC has determined that this final rule is the type of action described in 10 CFR 51.22(c)(2), which categorically excludes from environmental review rules that are corrective or of a minor, nonpolicy nature and do not substantially modify existing regulations. Therefore, neither an environmental impact statement nor an environmental assessment has been prepared for this rule.

V. Paperwork Reduction Act Statement

This final rule does not contain a collection of information as defined in the Paperwork Reduction Act of 1995 (44 U.S.C. 3501 et seq.) and, therefore, is not subject to the requirements of the Paperwork Reduction Act of 1995. The final rule, however, makes a non-substantive modification to an information collection, as the final rule eliminates a collection of information previously contained in 10 CFR part 50, appendix E, section V. The collection of information was approved by the Office of Management and Budget, approval number 3150-0011.

Public Protection Notification

The NRC may not conduct or sponsor, and a person is not required to respond to, a collection of information unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The revisions are non-substantive in nature, including renaming offices, capitalizing words, correcting a Web site address, correcting a misspelling, removing a submission requirement, correcting an email address, correcting a room number, removing a Federal Register notice requirement, and adding missing information collection references. They impose no new requirements and make no substantive changes to the regulations. The corrections do not involve any provisions that would impose backfits as defined in 10 CFR chapter I, or would be inconsistent with the issue finality provisions in 10 CFR part 52. For these reasons, the issuance of the rule in final form would not constitute backfitting or represent an inconsistency with any of the issue finality provisions in 10 CFR part 52. Therefore, the NRC has not prepared any additional documentation for this correction rulemaking addressing backfitting or issue finality.

List of Subjects

10 CFR Part 1

Flags, Organization and functions (Government Agencies), Seals and insignia.

10 CFR Part 2

Administrative practice and procedure, Antitrust, Byproduct material, Classified information, Confidential business information, Freedom of information, Environmental protection, Hazardous waste, Nuclear energy, Nuclear materials, Nuclear power plants and reactors, Penalties, Reporting and recordkeeping requirements, Sex discrimination, Source material, Special nuclear material, Waste treatment and disposal.

10 CFR Part 4

Administrative practice and procedure, Aged, Blind, Buildings, Civil rights, Employment, Equal employment opportunity, Federal aid programs, Federal buildings and facilities, Grant programs, Handicapped, Individuals with disabilities, Loan programs, Reporting and recordkeeping requirements, Sex discrimination.

10 CFR Part 7

Advisory committees, Sunshine Act.

10 CFR Part 9

Administrative practice and procedure, Courts, Criminal penalties, Freedom of information, Government employees, Privacy, Reporting and recordkeeping requirements, Sunshine Act.

10 CFR Part 11

Hazardous materials transportation, Investigations, Nuclear energy, Nuclear materials, Penalties, Reporting and recordkeeping requirements, Security measures, Special nuclear material.

10 CFR Part 15

Administrative practice and procedure, Claims, Debt collection.

10 CFR Part 19

Criminal penalties, Environmental protection, Nuclear Energy, Nuclear materials, Nuclear power plants and reactors, Occupational safety and health, Penalties, Radiation protection, Reporting and recordkeeping requirements, Sex discrimination.

10 CFR Part 20

Byproduct material, Criminal penalties, Hazardous waste, Licensed material, Nuclear energy, Nuclear materials, Nuclear power plants and reactors, Occupational safety and health, Packaging and containers, Penalties, Radiation protection, Reporting and recordkeeping requirements, Source material, Special nuclear material, Waste treatment and disposal.

10 CFR Part 21

Nuclear power plants and reactors, Penalties, Radiation protection, Reporting and recordkeeping requirements.

10 CFR Part 25

Classified information, Criminal penalties, Investigations, Penalties, Reporting and recordkeeping requirements, Security measures.

10 CFR Part 26

Administrative practice and procedure, Alcohol abuse, Alcohol testing, Appeals, Chemical testing, Drug abuse, Drug testing, Employee assistance programs, Fitness for duty, Management actions, Nuclear power plants and reactors, Privacy, Protection of information, Radiation protection, Reporting and recordkeeping requirements.

10 CFR Part 30

Byproduct material, Criminal penalties, Government contracts, Intergovernmental relations, Isotopes, Nuclear energy, Nuclear materials, Penalties, Radiation protection, Reporting and recordkeeping requirements, Whistleblowing.

10 CFR Part 32

Byproduct material, Criminal penalties, Labeling, Nuclear energy, Nuclear materials, Radiation protection, Reporting and recordkeeping requirements.

10 CFR Part 37

Byproduct material, Criminal penalties, Export, Hazardous materials transportation, Import, Licensed material, Nuclear materials, Penalties, Radioactive materials, Reporting and recordkeeping requirements, Security measures.

10 CFR Part 40

Criminal penalties, Exports, Government contracts, Hazardous materials transportation, Hazardous waste, Nuclear energy, Nuclear materials, Penalties, Reporting and recordkeeping requirements, Source material, Uranium, Whistleblowing.

10 CFR Part 50

Administrative practice and procedure, Antitrust, Classified information, Criminal penalties, education, Fire prevention, Fire protection, Incorporation by reference, Intergovernmental relations, Nuclear power plants and reactors, Penalties, Radiation protection, Reactor siting criteria, Reporting and recordkeeping requirements, Whistleblowing.

10 CFR Part 51

Administrative practice and procedure, Environmental impact statements, Hazardous waste, Nuclear energy, Nuclear materials, Nuclear power plants and reactors, Reporting and recordkeeping requirements.

10 CFR Part 52

Administrative practice and procedure, Antitrust, Backfitting, Combined license, Early site permit, Emergency planning, Fees, Incorporation by reference, Inspection, Limited work authorization, Nuclear power plants and reactors, Probabilistic risk assessment, Prototype, Reactor siting criteria, Redress of site, Penalties, Reporting and recordkeeping requirements, Standard design, Standard design certification.

10 CFR Part 55

Criminal penalties, Manpower training programs, Nuclear power plants and reactors, Reporting and recordkeeping requirements.

10 CFR Part 60

Criminal penalties, Hazardous waste, Indians, High-level waste, Intergovernmental relations, Nuclear energy, Nuclear materials, Nuclear power plants and reactors, Penalties, Radiation protection, Reporting and recordkeeping requirements, Waste treatment and disposal, Whistleblowing.

10 CFR Part 61

Criminal penalties, Hazardous waste, Indians, Intergovernmental relations, Low-level waste, Nuclear energy, Nuclear materials, Penalties, Reporting and recordkeeping requirements, Waste treatment and disposal, Whistleblowing.

10 CFR Part 62

Administrative practice and procedure, Denial of access, Emergency access to low-level waste disposal, Hazardous waste, Intergovernmental relations, Low-level radioactive waste, Low-level radioactive waste treatment and disposal, Nuclear energy, Nuclear materials, Radiation protection, Reporting and recordkeeping requirements.

10 CFR Part 63

Criminal penalties, Hazardous waste, High-level waste, Indians, Intergovernmental relations, Nuclear energy, Nuclear power plants and reactors, Penalties, Radiation protection, Reporting and recordkeeping requirements, Waste treatment and disposal.

10 CFR Part 70

Classified information, Criminal penalties, Emergency medical services, Hazardous materials transportation, Material control and accounting, Nuclear energy, Nuclear materials, Packaging and containers, Penalties, Radiation protection, Reporting and recordkeeping requirements, Scientific equipment, Security measures, Special nuclear material, Whistleblowing.

10 CFR Part 71

Criminal penalties, Hazardous materials transportation, Incorporation by reference, Intergovernmental relations, Nuclear materials, Packaging and containers, Penalties, Radioactive materials, Reporting and recordkeeping requirements.

10 CFR Part 72

Administrative practice and procedure, Criminal penalties, Hazardous waste, Indians, Intergovernmental relations, Manpower training programs, Nuclear energy, Nuclear materials, Occupational safety and health, Penalties, Radiation protection, Reporting and recordkeeping requirements, Security measures, Spent fuel, Whistleblowing.

10 CFR Part 73

Criminal penalties, Exports, Hazardous materials transportation, Incorporation by reference, Imports, Nuclear energy, Nuclear materials, Nuclear power plants and reactors, Penalties, Reporting and recordkeeping requirements, Security measures.

10 CFR Part 74

Accounting, Criminal penalties, Hazardous materials transportation, Material control and accounting, Nuclear energy, Nuclear materials, Packaging and containers, Penalties, Radiation protection, Reporting and recordkeeping requirements, Scientific equipment, Special nuclear material.

10 CFR Part 76

Certification, Criminal penalties, Nuclear energy, Penalties, Radiation protection, Reporting and record keeping requirements, Security measures, Special nuclear material, Uranium, Uranium enrichment by gaseous diffusion.

10 CFR Part 81

Administrative practice and procedure, Inventions and patents, Reporting and recordkeeping requirements.

10 CFR Part 95

Classified information, Criminal penalties, Penalties, Reporting and recordkeeping requirements, Security measures.

10 CFR Part 100

Nuclear power plants and reactors, Radiation protection, Reactor siting criteria, Reporting and recordkeeping requirements.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

10 CFR Part 140

Criminal penalties, Extraordinary nuclear occurrence, Insurance, Intergovernmental relations, Nuclear materials, Nuclear power plants and reactors, Penalties, Reporting and recordkeeping requirements.

10 CFR Part 150

Criminal penalties, Hazardous materials transportation, Intergovernmental relations, Nuclear energy, Nuclear materials, Penalties, Reporting and recordkeeping requirements, Security measures, Source material, Special nuclear material.

10 CFR Part 170

Byproduct material, Import and export licenses, Intergovernmental relations, Non-payment penalties, Nuclear energy, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR parts 1, 2, 4, 7, 9, 11, 15, 19, 20, 21, 25, 26, 30, 32, 37, 40, 50, 51, 52, 55, 60, 61, 62, 63, 70, 71, 72, 73, 74, 76, 81, 95, 100, 110, 140, 150, 170, and 171:

PART 1—STATEMENT OF ORGANIZATION AND GENERAL INFORMATION

1. The authority citation for part 1 continues to read as follows:

Authority: Atomic Energy Act of 1954, secs. 23, 25, 29, 161, 191 (42 U.S.C. 2033, 2035, 2039, 2201, 2241); Energy Reorganization Act of 1974, secs. 201, 203, 204, 205, 209 (42 U.S.C. 5841, 5843, 5844, 5845, 5849); Administrative Procedure Act (5 U.S.C. 552, 553); Reorganization Plan No. 1 of 1980, 5 U.S.C. Appendix (Reorganization Plans).

§ 1.3 [Amended]

2. In § 1.3, paragraph (c), remove the phrase “Information and Records Services Division, ”. Also in paragraph (c), remove the phrase “Office of Information Services” and add in its place the phrase “Office of the Chief Information Officer”.

§ 1.32 [Amended]

3. In § 1.32, paragraph (b), remove the phrase “Office of Information Services” and add in its place the phrase “Office of the Chief Information Officer”.

4. In § 1.35:

a. Revise the section heading and the introductory text;

b. In paragraph (f), remove the word “and” at the end of paragraph;

c. In paragraph (g), remove the “.” at the end of paragraph and add in its place “;”; and

d. Add new paragraphs (h) through (l).

The revision and additions read as follows:

§ 1.35 Office of the Chief Information Officer.

The Office of the Chief Information Officer—

* * * * *

(h) Plans, recommends, and oversees the NRC's Information Technology (IT) Security Program consistent with applicable laws, regulations, management initiatives, and policies;

(i) Provides principal advice to the NRC on the infrastructure, as well as the programmatic and administrative aspects of cybersecurity;

(j) Establishes NRC-wide cybersecurity guidelines;

(k) Guides security process maturity, as well as formulating and overseeing the cybersecurity program budget; and

(l) Ensures NRC-wide integration, direction, and coordination of IT security planning and performance within the framework of the NRC IT Security Program.

§ 1.38 [Removed and Reserved]

5. Remove and reserve § 1.38.

§ 1.42 [Amended]

6. In § 1.42, paragraph (b)(3), remove the word “tribe” and add in its place the word “Tribe”.

PART 2—AGENCY RULES OF PRACTICE AND PROCEDURE

7. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553); National Environmental Policy Act of 1969 (42 U.S.C. 4332); 44 U.S.C. 3504 note.

Section 2.205(j) also issued under Sec. 31001(s), Pub. L. 104-134, 110 Stat. 1321-373 (28 U.S.C. 2461 note).

8. In part 2, wherever it may occur, remove the phrase “Office of Information Services” and add in its place the phrase “Office of the Chief Information Officer”.

9. In part 2, wherever it may occur, remove the word “tribal” and add in its place the word “Tribal”.

PART 4—NONDISCRIMINATION IN FEDERALLY ASSISTED PROGRAMS OR ACTIVITIES RECEIVING FEDERAL FINANCIAL ASSISTANCE FROM THE COMMISSION

10. The authority citation for part 4 continues to read as follows:

Authority: Atomic Energy Act of 1954, secs. 161, 223, 234, 274 (42 U.S.C. 2201, 2273, 2282, 2021); Energy Reorganization Act of 1974, secs. 201, 401 (42 U.S.C. 5841, 5891); 29 U.S.C. 794; 42 U.S.C. 12101 et seq.; 44 U.S.C. 3504 note.

Subpart A also issued under 42 U.S.C. 2000d through d-7.

Subpart B also issued under 29 U.S.C. 706.

Subpart C also issued under 42 U.S.C. 6101 through 6107.

§ 4.5 [Amended]

11. In § 4.5 remove the phrase “Office of Information Services” and add in its place the phrase “Office of the Chief Information Officer”.

PART 7—ADVISORY COMMITTEES

12. The authority citation for part 7 continues to read as follows:

Authority: Atomic Energy Act of 1954, sec. 161 (42 U.S.C. 2201); Energy Reorganization Act of 1974, sec. 201 (42 U.S.C. 5841); 5 U.S.C. Appendix (Federal Advisory Committee Act).

§ 7.2 [Amended]

13. In § 7.2, the definition of Advisory Committee, in paragraph (10), remove the word “tribal” and add in its place the word “Tribal”.

§ 7.22 [Amended]

14. In § 7.22, paragraph (b), remove the phrase “Office of Information Services” and add in its place the phrase “Office of the Chief Information Officer”.

PART 9—PUBLIC RECORDS

15. The authority citation for part 9 continues to read as follows:

Authority: Atomic Energy Act of 1954, sec. 161 (42 U.S.C. 2201); Energy Reorganization Act of 1974, sec. 201 (42 U.S.C. 5841); 44 U.S.C. 3504 note.

Subpart A also issued under 31 U.S.C. 9701.

Subpart B also issued under 5 U.S.C. 552a.

Subpart C also issued under 5 U.S.C. 552b.

16. In part 9, wherever it may occur, remove the phrase “Office of Information Services” and add in its place the phrase “Office of the Chief Information Officer”.

PART 11—CRITERIA AND PROCEDURES FOR DETERMINING ELIGIBILITY FOR ACCESS TO OR CONTROL OVER SPECIAL NUCLEAR MATERIAL

17. The authority citation for part 11 continues to read as follows:

Authority: Atomic Energy Act of 1954, secs. 161, 223 (42 U.S.C. 2201, 2273); Energy Reorganization Act of 1974, sec. 201 (42 U.S.C. 5841); 44 U.S.C. 3504 note.

Section 11.15(e) also issued under 31 U.S.C. 9701; 42 U.S.C. 2214.

§ 11.15 [Amended]

18. In § 11.15, paragraph (a)(1), remove the phrase “Office of Information Services” and add in its place the phrase “Office of the Chief Information Officer”.

PART 15—DEBT COLLECTION PROCEDURES

19. The authority citation for part 15 continues to read as follows:

Authority: Atomic Energy Act of 1954, sec. 161, 186 (42 U.S.C. 2201, 2236); Energy Reorganization Act of 1974, sec. 201 (42 U.S.C. 5841); 5 U.S.C. 5514; 26 U.S.C. 6402; 31 U.S.C. 3701, 3713, 3716, 3719, 3720A; 42 U.S.C. 664; 44 U.S.C. 3504 note; 31 CFR parts 900 through 904; 31 CFR part 285; E.O. 12146, 44 FR 42657, 3 CFR, 1979 Comp., p. 409; E.O. 12988, 61 FR 4729, 3 CFR, 1996 Comp., p.157.

§ 15.3 [Amended]

20. In § 15.3, remove the phrase “Office of Information Services” and add in its place the phrase “Office of the Chief Information Officer”.

PART 19—NOTICES, INSTRUCTIONS AND REPORTS TO WORKERS: INSPECTION AND INVESTIGATIONS

21. The authority citation for part 19 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 211, 401 (42 U.S.C. 5841, 5851, 5891); 44 U.S.C. 3504 note.

§ 19.17 [Amended]

22. In § 19.17, paragraph (a), remove the phrase “Office of Information Services” and add in its place the phrase “Office of the Chief Information Officer”.

PART 20—STANDARDS FOR PROTECTION AGAINST RADIATION

23. The authority citation for part 20 continues to read as follows:

Authority: Atomic Energy Act of 1954, secs. 11, 53, 63, 65, 81, 103, 104, 161, 170H, 182, 186, 223, 234, 274, 1701 (42 U.S.C. 2014, 2073, 2093, 2095, 2111, 2133, 2134, 2201, 2210h, 2232, 2236, 2273, 2282, 2021, 2297f); Energy Reorganization Act of 1974, secs. 201, 202 (42 U.S.C. 5841, 5842); Low-Level Radioactive Waste Policy Amendments Act of 1985, sec. 2 (42 U.S.C. 2021b); 44 U.S.C. 3504 note.

24. In part 20, wherever it may occur, remove the phrase “Office of Information Services” and add in its place the phrase “Office of the Chief Information Officer”.

PART 21—REPORTING OF DEFECTS AND NONCOMPLIANCE

25. The authority citation for part 21 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 206 (42 U.S.C. 5841, 5846); Nuclear Waste Policy Act of 1982,, secs. 135, 141 (42 U.S.C. 10155, 10161); 44 U.S.C. 3504 note.

§ 21.5 [Amended]

26. In § 21.5, remove the phrase “Office of Information Services” and add in its place the phrase “Office of the Chief Information Officer”.

PART 25—ACCESS AUTHORIZATION

27. The authority citation for part 25 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, 25 FR 1583, as amended, 3 CFR, 1959-1963 Comp., p. 398; E.O. 12829, 58 FR 3479, 3 CFR, 1993 Comp., p. 570; E.O. 13526, 75 FR 707, 3 CFR, 2009 Comp., 9.298; E.O. 12968, 60 FR 40245, 3 CFR, 1995 Comp., p. 391.

Section 25.17(f) and Appendix A also issued under 31 U.S.C. 9701; 42 U.S.C. 2214.

§ 25.9 [Amended]

28. In § 25.9, remove the phrase “Office of Information Services” and add in its place the phrase “Office of the Chief Information Officer”.

PART 26—FITNESS FOR DUTY PROGRAMS

29. The authority citation for part 26 continues to read as follows:

Authority: Atomic Energy Act of 1954, secs. 53, 103, 104, 107, 161, 223, 234, 1701 (42 U.S.C. 2073, 2133, 2134, 2137, 2201, 2273, 2282, 2297f); Energy Reorganization Act of 1974, secs. 201, 202 (42 U.S.C. 5841, 5842); 44 U.S.C. 3504 note.

§ 26.11 [Amended]

30. In § 26.11, remove the phrase “Office of Information Services” and add in its place the phrase “Office of the Chief Information Officer”.

PART 30—RULES OF GENERAL APPLICABILITY TO DOMESTIC LICENSING OF BYPRODUCT MATERIAL

31. The authority citation for part 30 continues to read as follows:

Authority: Atomic Energy Act of 1954, secs. 11, 81, 161, 181, 182, 183, 184, 186, 187, 223, 234, 274 (42 U.S.C. 2014, 2111, 2201, 2231, 2232, 2233, 2234, 2236, 2237, 2273, 2282, 2021); Energy Reorganization Act of 1974, secs. 201, 202, 206, 211 (42 U.S.C. 5841, 5842, 5846, 5851); 44 U.S.C. 3504 note.

§ 30.6 [Amended]

32. In § 30.6, paragraph (a)(3), remove the phrase “Office of Information Services” and add in its place the phrase “Office of the Chief Information Officer”.

PART 32—SPECIFIC DOMESTIC LICENSES TO MANUFACTURE OR TRANSFER CERTAIN ITEMS CONTAINING BYPRODUCT MATERIAL

33. The authority citation for part 32 continues to read as follows:

Authority: Atomic Energy Act of 1954, secs. 81, 161, 170H, 181, 182, 183, 223, 234, 274 (42 U.S.C. 2111, 2201, 2210h, 2231, 2232, 2233, 2273, 2282, 2021); Energy Reorganization Act of 1974, sec. 201 (42 U.S.C. 5841); 44 U.S.C. 3504 note.

§ 32.1 [Amended]

34. In § 32.1, paragraph (c)(1), remove the word “tribe” wherever it may occur, and add in its place the word “Tribe”.

PART 37—PHYSICAL PROTECTION OF CATEGORY 1 AND CATEGORY 2 QUANTITIES OF RADIOACTIVE MATERIAL

35. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

36. In part 37, wherever it may occur, remove the phrase “Office of Information Services” and add in its place the phrase “Office of the Chief Information Officer”.

§ 37.77 [Amended]

37. In § 37.77(a)(1), remove the Web site address “https://nrc.stp.ornl.gov/special/designee.pdf” and add in its place the Web site address “https://scp.nrc.gov/special/designee.pdf”.

PART 40—DOMESTIC LICENSING OF SOURCE MATERIAL

38. The authority citation for part 40 continues to read as follows:

Authority: Atomic Energy Act of 1954, secs. 62, 63, 64, 65, 69, 81, 83, 84, 122, 161, 181, 182, 183, 184, 186, 193, 223, 234, 274, 275 (42 U.S.C. 2092, 2093, 2094, 2095, 2099, 2111, 2113, 2114, 2152, 2201, 2231, 2232, 2233, 2234, 2236,2237, 2243, 2273, 2282, 2021, 2022); Energy Reorganization Act of 1974, secs. 201, 202, 206, 211 (42 U.S.C. 5841, 5842, 5846, 5851); Uranium Mill Tailings Radiation Control Act of 1978, sec. 104 (42 U.S.C. 7914); 44 U.S.C. 3504 note.

39. In part 40, wherever it may occur, remove the word “tribe” and add in its place the word “Tribe”.

§ 40.5 [Amended]

40. In § 40.5, paragraph (a)(3), remove the phrase “Office of Information Services” and add in its place the phrase “Office of the Chief Information Officer”.

PART 50—DOMESTIC LICENSING OF PRODUCTION AND UTILIZATION FACILITIES

41. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.4 [Amended]

42. In § 50.4, paragraphs (a) and (e), remove the phrase “Office of Information Services” and add in its place the phrase “Office of the Chief Information Officer”.

§ 50.34 [Amended]

43. In § 50.34(f)(3)(v)(A)(1) and (f)(3)(v)(B)(1), remove the word “Subsubarticle” wherever it may occur, and add in its place the word “subarticle”.

44. In appendix E to part 50, revise section V. to read as follows:

Appendix E to Part 50—Emergency Planning and Preparedness for Production and Utilizations Facilities.

* * * * *

V. Implementing Procedures

No less than 180 days before the scheduled issuance of an operating license for a nuclear power reactor or a license to possess nuclear material, or the scheduled date for initial loading of fuel for a combined license under part 52 of this chapter, the applicant's or licensee's detailed implementing procedures for its emergency plan shall be submitted to the Commission as specified in § 50.4.

* * * * *

PART 51—ENVIRONMENTAL PROTECTION REGULATIONS FOR DOMESTIC LICENSING AND RELATED REGULATORY FUNCTIONS

45. The authority citation for part 51 continues to read as follows:

Authority: Atomic Energy Act of 1954, secs. 161, 193 (42 U.S.C. 2201, 2243); Energy Reorganization Act of 1974, secs. 201, 202 (42 U.S.C. 5841, 5842); National Environmental Policy Act of 1969 (42 U.S.C. 4332, 4334, 4335); Nuclear Waste Policy Act of 1982, secs. 144(f), 121, 135, 141, 148 (42 U.S.C. 10134(f), 10141, 10155, 10161, 10168); 44 U.S.C. 3504 note.

46. In part 51, wherever it may occur, remove the phrase “Office of Information Services” and add in its place the phrase “Office of the Chief Information Officer”.

47. In part 51, wherever it may occur, remove the word “tribe” and add in its place the word “Tribe”.

48. In part 51, wherever it may occur, remove the word “tribes” and add in its place the word “Tribes”.

§ 51.123 [Amended]

49. In § 51.123, in paragraphs (a) and (b), remove the email address “DISTRIBUTION@nrc.gov” and add in its place the email address “distribution.resource@nrc.gov”.

PART 52—LICENSES, CERTIFICATIONS, AND APPROVALS FOR NUCLEAR POWER PLANTS

50. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.3 [Amended]

51. In § 52.3, paragraph (a), remove the phrase “Office of Information Services” and add in its place the phrase “Office of the Chief Information Officer”.

PART 55—OPERATORS' LICENSES

52. The authority citation for part 55 continues to read as follows:

Authority: Atomic Energy Act of 1954, secs. 107, 161, 181, 182, 183, 186, 187, 223, 234 (42 U.S.C. 2137, 2201, 2231, 2232, 2233, 2236, 2237, 2273, 2282); Energy Reorganization Act secs. 201, 202 (42 U.S.C. 5841, 5842); Nuclear Waste Policy Act of 1982, sec. 306 (42 U.S.C. 10226); 44 U.S.C. 3504 note.

53. In part 55, wherever it may occur, remove the phrase “Office of Information Services” and add in its place the phrase “Office of the Chief Information Officer”.

54. In § 55.40, revise footnote 1 to read as follows:

§ 55.40 Implementation.

* * * * *

¹ Copies of NUREGs may be purchased from the Superintendent of Documents, U.S. Government Publishing Office, P.O. Box 38082, Washington, DC 20402-9328. Copies are also available from the National Technical Information Service, 5301 Shawnee Road, Alexandria, VA 22312. A copy is available for inspection and/or copying in the NRC Public Document Room, One White Flint North, 11555 Rockville Pike (O-1 F21), Rockville, MD.

PART 60—DISPOSAL OF HIGH-LEVEL RADIOACTIVE WASTES IN GEOLOGIC REPOSITORIES

55. The authority citation for part 60 continues to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141); 44 U.S.C. 3504 note.

§ 60.4 [Amended]

56. In § 60.4, paragraph (a), remove the phrase “Office of Information Services” and add in its place the phrase “Office of the Chief Information Officer”.

PART 61—LICENSING REQURIEMENTS FOR LAND DISPOSAL OF RADIOACTIVE WASTE

57. The authority citation for part 61 continues to read as follows:

Authority: Atomic Energy Act of 1954, secs. 53, 57, 62, 63, 65, 81, 161, 181, 182, 183, 223, 234 (42 U.S.C. 2073, 2077, 2092, 2093, 2095, 2111, 2201, 2231, 2232, 2233, 2273, 2282); Energy Reorganization Act of 1974, secs. 201, 206, 211 (42 U.S.C. 5841, 5846, 5851); Low-Level Radioactive Waste Policy Amendments Act of 1985, sec. 2 (42 U.S.C.2021b); 44 U.S.C. 3504 note.

58. In part 61, wherever it may occur, remove the word “tribe” and add in its place the word “Tribe”.

59. In part 61, wherever it may occur, remove the word “tribes” and add in its place the word “Tribes”.

60. In part 61, wherever it may occur, remove the word “tribal” and add in its place the word “Tribal”.

§ 61.4 [Amended]

61. In § 61.4, remove the phrase “Office of Information Services” and add in its place the phrase “Office of the Chief Information Officer”.

PART 62—CRITERIA AND PROCEDURES FOR EMERGENCY ACCESS TO NON-FEDERAL AND REGIONAL LOW-LEVEL WASTE DISPOSAL FACILITIES

62. The authority citation for part 62 continues to read as follows:

Authority: Atomic Energy Act of 1954, sec. 161 (42 U.S.C. 2201); Energy Reorganization Act of 1974, sec. 201 (42 U.S.C. 5841); Low-Level Radioactive Waste Policy Act of 1985, secs. 2, 6 (42 U.S.C. 2021b, 2021f); 44 U.S.C. 3504 note.

§ 62.3 [Amended]

63. In § 62.3, remove the phrase “Office of Information Services” and add in its place the phrase “Office of the Chief Information Officer”.

PART 63—DISPOSAL OF HIGH-LEVEL RADIOACTIVE WASTES IN A GEOLOGIC REPOSITORY AT YUCCA MOUNTAIN, NEVADA

64. The authority citation for part 63 continues to read as follows:

Authority: Atomic Energy Act of 1954, secs. 51, 53, 62, 63, 65, 81, 161, 182, 183, 223, 234 (42 U.S.C. 2071, 2073, 2092, 2093, 2095, 2111, 2201, 2232, 2233, 2273, 2282); Energy Reorganization Act of 1974, secs. 201, 202, 206, 211 (42 U.S.C. 5841, 5842, 5846, 5851); 42 U.S.C. 2021a; National Environmental Policy Act of 1969 (42 U.S.C. 4332); Nuclear Waste Policy Act of 1982, secs. 114, 117, 121 (42 U.S.C. 10134, 10137, 10141); 44 U.S.C. 3504 note.

§ 63.4 [Amended]

65. In § 63.4, paragraph (a)(3), remove the phrase “Office of Information Services” and add in its place the phrase “Office of the Chief Information Officer”.

PART 70—DOMESTIC LICENSING OF SPECIAL NUCLEAR MATERIAL

66. The authority citation for part 70 continues to read as follows:

Authority: Atomic Energy Act of 1954, secs. 51, 53, 57(d), 108, 122, 161, 182, 183, 184, 186, 187, 193, 223, 234, 274, 1701 (42 U.S.C. 2071, 2073, 2077(d), 2138, 2152, 2201, 2232, 2233, 2234, 2236, 2237, 2243, 2273, 2282, 2021, 2297f); Energy Reorganization Act of 1974, secs. 201, 202, 206, 211 (42 U.S.C. 5841, 5842, 5846, 5851); Nuclear Waste Policy Act of 1982, secs. 135, 141 (42 U.S.C. 10155, 10161); 44 U.S.C. 3504 note.

§ 70.5 [Amended]

67. In § 70.5, paragraph (a)(3), remove the phrase “Office of Information Services” and add in its place the phrase “Office of the Chief Information Officer”.

PART 71—PACKAGING AND TRANSPORTATION OF RADIOACTIVE MATERIAL

68. The authority citation for part 71 continues to read as follows:

Authority: Atomic Energy Act of 1954, secs. 53, 57, 62, 63, 81, 161, 182, 183, 223, 234, 1701 (42 U.S.C. 2073, 2077, 2092, 2093, 2111, 2201, 2232, 2233, 2273, 2282, 2297f); Energy Reorganization Act of 1974, secs. 201, 202, 206, 211 (42 U.S.C. 5841, 5842, 5846, 5851); Nuclear Waste Policy Act of 1982, sec. 180 (42 U.S.C. 10175); 44 U.S.C. 3504 note.

Section 71.97 also issued under Sec. 301, Pub. L. 96-295, 94 Stat. 789 (42 U.S.C. 5841 note).

§ 71.1 [Amended]

69. In § 71.1, paragraph (a), remove the phrase “Office of Information Services” and add in its place the phrase “Office of the Chief Information Officer”.

§ 71.4 [Amended]

70. In § 71.4, in the definition of Indian Tribe, remove the word “tribe” wherever it may occur, and add in its place the word “Tribe”.

71. In § 71.97, revise paragraph (c)(3)(ii) to read as follows:

§ 71.97 Advance notification of shipment of irradiated reactor fuel and nuclear waste.

* * * * *

(c) * * *

(3) * * *

(ii) Contact information for each State, including telephone and mailing addresses of governors and governors' designees, and participating Tribes, including telephone and mailing addresses of Tribal officials and Tribal official's designees, is available on the NRC Web site at: https://scp.nrc.gov/special/designee.pdf.

* * * * *

PART 72—LICENSING REQUIREMENTS FOR THE INDEPENDENT STORAGE OF SPENT NUCLEAR FUEL, HIGH-LEVEL RADIOACTIVE WASTE, AND REACTOR-RELATED GREATER THAN CLASS C WASTE

72. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

73. In part 72, wherever it may occur, remove the word “tribe” and add in its place the word “Tribe”.

§ 72.4 [Amended]

74. In § 72.4, remove the phrase “Office of Information Services” and add in its place the phrase “Office of the Chief Information Officer”.

PART 73—PHYSICAL PROTECTION OF PLANTS AND MATERIALS

75. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Pub. L. 96-295, 94 Stat. 789 (42 U.S.C. 5841 note).

76. In part 73, wherever it may occur, remove the phrase “Office of Information Services” and add in its place the phrase “Office of the Chief Information Officer”.

§ 73.2 [Amended]

77. In § 73.2, in the definition of Indian tribe, remove the word “tribe” and add in its place the word “Tribe”.

78. In § 73.8, revise paragraph (b) to read as follows:

§ 73.8 Information collection requirements: OMB approval.

* * * * *

(b) The approved information collection requirements contained in this part appear in §§ 73.5, 73.20, 73.21, 73.23, 73.24, 73.25, 73.26, 73.27, 73.37, 73.38, 73.40, 73.45, 73.46, 73.50, 73.51, 73.54, 73.55, 73.56, 73.57, 73.58, 73.60, 73.67, 73.70, 73.71, 73.72, 73.73, 73.74, and appendices B, C, and G to this part.

* * * * *

§ 73.37 [Amended]

79. In § 73.37(b)(2) introductory text, remove the Web site address “https://nrc-stp.ornl.gov/special/designee.pdf” and add in its place the Web site address “https://scp.nrc.gov/special/designee.pdf”.

PART 74—MATERIAL CONTROL AND ACCOUNTING OF SPECIAL NUCLEAR MATERIAL

80. The authority citation for part 74 continues to read as follows:

Authority: Atomic Energy Act of 1954, secs. 53, 57, 161, 182, 183, 223, 234, 1701 (42 U.S.C. 2073, 2077, 2201, 2232, 2273, 2282, 2297f); Energy Reorganization Act of 1974, secs. 201, 202 (42 U.S.C. 5841, 5842); 44 U.S.C. 3504 note.

§ 74.6 [Amended]

81. In § 74.6, paragraph (c), remove the phrase “Office of Information Services” and add in its place the phrase “Office of the Chief Information Officer”.

PART 76—CERTIFICATION OF GASEOUS DIFFUSION PLANTS

82. The authority citation for part 76 continues to read as follows:

Authority: Atomic Energy Act of 1954, secs. 122, 161, 193(f), 223, 234, 1701 (42 U.S.C. 2152, 2201, 2243(f), 2273, 2282, 2297f); Energy Reorganization Act of 1974, secs. 201, 206, 211 (42 U.S.C. 5841, 5846, 5851); 44 U.S.C. 3504 note.

§ 76.5 [Amended]

83. In § 76.5, paragraph (c), remove the phrase “Office of Information Services” and add in its place the phrase “Office of the Chief Information Officer”.

PART 81—STANDARD SPECIFICATIONS FOR THE GRANTING OF PATENT LICENSES

84. The authority citation for part 81 continues to read as follows:

Authority: Atomic Energy Act of 1954, secs. 156, 161 (42 U.S.C. 2186, 2201); Energy Reorganization Act of 1974, sec. 201 (42 U.S.C. 5841); 44 U.S.C. 3504 note.

§ 81.3 [Amended]

85. In § 81.3, remove the phrase “Office of Information Services” and add in its place the phrase “Office of the Chief Information Officer”.

PART 95—FACILITY SECURITY CLEARANCE AND SAFEGUARDING OF NATIONAL SECURITY INFORMATION AND RESTRICTED DATA

86. The authority citation for part 95 continues to read as follows:

Authority: Atomic Energy Act of 1954, secs. 145, 161, 223, 234 (42 U.S.C. 2165, 2201, 2273, 2282); Energy Reorganization Act of 1974, sec. 201 (42 U.S.C. 5841); 44 U.S.C. 3504 note; E.O. 10865, as amended, 25 FR 1583, 3 CFR, 1959-1963 Comp., p. 398; E.O. 12829, 58 FR 3479, 3 CFR, 1993 Comp., p. 570; E.O. 12968, 60 FR 40245, 3 CFR, 1995 Comp., p. 391; E.O. 13526, 75 FR 707, 3 CFR, 2009 Comp., p. 298.

§ 95.9 [Amended]

87. In § 95.9, paragraph (c), remove the phrase “Office of Information Services” and add in its place the phrase “Office of the Chief Information Officer”.

PART 100—REACTOR SITE CRITERIA

88. The authority citation for part 100 continues to read as follows:

Authority: Atomic Energy Act of 1954, secs. 103, 104, 161, 182 (42 U.S.C. 2133, 2134, 2201, 2232); Energy Reorganization Act of 1974, secs. 201, 202 (42 U.S.C. 5841, 5842); 44 U.S.C. 3504 note.

§ 100.4 [Amended]

89. In § 100.4, remove the phrase “Office of Information Services” and add in its place the phrase “Office of the Chief Information Officer”.

PART 110—EXPORT AND IMPORT OF NUCLEAR EQUIPMENT AND MATERIAL

90. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 216d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

§ 110.4 [Amended]

91. In § 110.4, remove the phrase “Office of Information Services” and add in its place the phrase “Office of the Chief Information Officer”.

PART 140—FINANCIAL PROTECTION REQUIREMENTS AND INDEMNITY AGREEMENTS

92. The authority citation for part 140 continues to read as follows:

Authority: Atomic Energy Act of 1954, secs. 161, 170, 223, 234 (42 U.S.C. 2201, 2210, 2273, 2282); Energy Reorganization Act of 1974, secs. 201, 202 (42 U.S.C. 5841, 5842); 44 U.S.C. 3504 note.

§ 140.5 [Amended]

93. In § 140.5, remove the phrase “Office of Information Services” and add in its place the phrase “Office of the Chief Information Officer”.

PART 150—EXEMPTIONS AND CONTINUED REGULATORY AUTHORITY IN AGREEMENT STATES AND IN OFFSHORE WATERS UNDER SECTION 274

94. The authority citation for part 150 continues to read as follows:

Authority: Atomic Energy Act of 1954, secs. 11, 53, 81, 83, 84, 122, 161, 181, 223, 234, 274 (42 U.S.C. 2014, 2201, 2231, 2273, 2282, 2021); Energy Reorganization Act of 1974, sec. 201 (42 U.S.C. 5841); Nuclear Waste Policy Act of 1982, secs. 135, 141 (42 U.S.C. 10155, 10161; 44 U.S.C. 3504 note.

§ 150.4 [Amended]

95. In § 150.4, remove the phrase “Office of Information Services” and add in its place the phrase “Office of the Chief Information Officer”.

§ 150.15a [Amended]

96. In § 150.15a, paragraph (b)(6), remove the word “tribe” wherever it may occur, and add in its place the word “Tribe”.

PART 170—FEES FOR FACILITIES, MATERIALS, IMPORT AND EXPORT LICENSES, AND OTHER REGULATORY SERVICES UNDER THE ATOMIC ENERGY ACT OF 1954, AS AMENDED

97. The authority citation for part 170 continues to read as follows:

Authority: Atomic Energy Act of 1954, secs. 11, 161(w) (42 U.S.C. 2014, 2201(w)); Energy Reorganization Act of 1974, sec. 201 (42 U.S.C. 5841); 42 U.S.C. 2214; 31 U.S.C. 901, 902, 9701; 44 U.S.C. 3504 note.

§ 170.5 [Amended]

98. In § 170.5, remove the phrase “Office of Information Services” and add in its place the phrase “Office of the Chief Information Officer”.

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY THE NRC

99. The authority citation for part 171 continues to read as follows:

Authority: Atomic Energy Act of 1954, secs. 11, 161(w), 223, 234 (42 U.S.C. 2014, 2201(w), 2273, 2282); Energy Reorganization Act of 1974, sec. 201 (42 U.S.C. 5841); 42 U.S.C. 2214; 44 U.S.C. 3504 note.

§ 171.9 [Amended]

100. In § 171.9, remove the phrase “Office of Information Services” and add in its place the phrase “Office of the Chief Information Officer”.

Dated at Rockville, Maryland, this 20th day of November, 2015.
For the Nuclear Regulatory Commission.
Helen Chang,
Acting Chief, Rules, Announcements, and Directives Branch, Division of Administrative Services, Office of Administration.

[FR Doc. 2015-30153 Filed 11-30-15; 8:45 am]

BILLING CODE 7590-01-P